DEPARTMENT OF AGRICULTURE

Food and Nutrition Service

Child and Adult Care Food Program: National Average Payment Rates, Day Care Home Food Service Payment Rates, and Administrative Reimbursement Rates for Sponsoring Organizations of Day Care Homes for the Period July 1, 2011 Through June 30, 2012

Correction

In notice document 2011-18257 appearing on pages 43254-43256 in the issue of July 20, 2011, make the following correction:

On page 43255, the table labeled “Administrative Reimbursement Rates for Sponsoring Organizations of Day Care Homes per Home (Per month rates in U.S. dollars)” should read:

| Initial 50 | Next 150 | Next 800 | Each addl
CONTIGUOUS STATES | 106 | 81 | 63 | 55
ALASKA | 171 | 130 | 102 | 90
HAWAII | 124 | 94 | 74 | 65

[FR Doc. C1-2011-18257 Filed 7-25-11; 8:45 am]

BILLING CODE 1505-01-P